ENVIRONMENTAL PROTECTION AGENCY

[FRL-6839-3]

Proposed CERCLA Administrative Cost Recovery Settlement for the Hertel Landfill Superfund Site, Clintondale, Town of Plattekill, Ulster County, New York

AGENCY: Environmental Protection Agency (EPA).

ACTION: Notice; request for public comment.

SUMMARY: In accordance with section 122(i) of the Comprehensive Environmental Response, Compensation, and Liability Act of 1980, as amended (“CERCLA”), 42 U.S.C. 9622(i), notice is hereby given by the U.S. Environmental Protection Agency (“EPA”), Region II, of a proposed administrative settlement pursuant to section 122(h) of CERCLA, 42 U.S.C. 9622(h), for recovery of past response costs concerning the Hertel Landfill Superfund Site (“Site”) located in Clintondale, Town of Plattekill, Ulster County, New York, with Mark Goodson Enterprises, Ltd. (d/b/a Kingston Daily Freeman or The Daily Freeman) and Brown & Sharpe Manufacturing Company (hereinafter collectively referred to as “Settling Parties”). The settlement requires the Settling Parties to each pay $43,798.00 to the EPA Hazardous Substance Superfund in reimbursement of EPA's past response costs incurred with respect to the Site. The Settling Parties shall each also pay $43,798.00 to the Hertel Steering Committee Escrow Account to be applied toward funding the Site remedial work that has been or is being performed by the parties that comprise the Hertel Steering Committee. The settlement includes a covenant not to sue the Settling Parties pursuant to section 106 and 107(a) of CERCLA, 42 U.S.C. 9606 and 9607(a), for all past response costs incurred at or in connection with the Site by the United States, and all response costs incurred and to be incurred by the United States and the Hertel Steering Committee at or in connection with the Site through the completion of the Site landfill cap (and operation and maintenance thereof). For thirty (30) days following the date of publication of this notice, EPA will receive written comments relating to the settlement. EPA will consider all comments received and may modify or withdraw its consent to the settlement if comments received disclose facts or considerations that indicate that the proposed settlement is inappropriate, improper, or inadequate. EPA's response to any comments received will be available for public inspection at the EPA Region II offices located at 290 Broadway, New York, New York 10007-1866.

DATES: Comments must be submitted on or before August 21, 2000.

ADDRESSES: The proposed settlement is available for public inspection at the EPA Region II offices located at 290 Broadway, New York, New York 10007-1866. Comments should reference the Hertel Landfill Superfund Site and the index number of the settlement, CERCLA-02-99-2004. A copy of the proposed settlement may be obtained from the individual listed below.

FOR FURTHER INFORMATION CONTACT: Carl P. Garvey, Assistant Regional Counsel, New York/Caribbean Superfund Branch, Office of Regional Counsel, U.S. Environmental Protection Agency Region II, 17th Floor, 290 Broadway, New York, New York 10007-1866. Telephone: 212-637-3181.

Dated: June 30, 2000.
William J. Muszynski,
Acting Regional Administrator, Region 2.

[FR Doc. 00-18535 Filed 7-20-00; 8:45 am]

BILLING CODE 6560-50-P